NATIONAL AERONAUTICS AND SPACE ADMINISTRATION

14 CFR Ch. V

Regulatory Agenda

AGENCY: National Aeronautics and Space Administration (NASA).

ACTION: Semiannual regulatory agenda.

SUMMARY: NASA's regulatory agenda describes those regulations being considered for development or amendment by NASA, the need and legal basis for the actions being considered, the name and telephone number of the knowledgeable official, whether a regulatory analysis is required, and the status of regulations previously reported.

The regulatory plan is a statement of the Agency's priorities that describe legislative and programmatic activities, highlight rulemaking that streamline's regulations and report requirements, identify regulations that are of particular concern to small businesses, include preliminary estimates of the anticipated costs and benefits of each rule, and provide specific citation of actions required by statue or court order.

ADDRESSES: Deputy Associate Administrator, Office Mission Support Directorate, NASA Headquarters, Washington, DC 20546.

FOR FURTHER INFORMATION CONTACT: Cheryl E. Parker, (202) 358-0252.

SUPPLEMENTARY INFORMATION: OMB guidelines dated June 18, 2018, “Fall 2017 Data Call for the Regulatory Plan and Unified Agenda of Federal Regulatory and Deregulatory Actions,” require a regulatory agenda of those regulations under development and review to be published in the Federal Register each spring and fall.

Dated: July 27, 2018.
Verron Brade,
Deputy Associate Administrator, Office of the Mission Support Directorate.

National Aeronautics and Space Administration—Final Rule Stage
Sequence No. | Title | Regulation Identifier No.
368 | Uniform Administrative Requirements, Cost Principles, and Audit Requirements for Federal Awards (Section 610 Review) | 2700-AE49

NATIONAL AERONAUTICS AND SPACE ADMINISTRATION (NASA)

Final Rule Stage

368. • Uniform Administrative Requirements, Cost Principles, and Audit Requirements for Federal Awards (Section 610 Review)

E.O. 13771 Designation: Deregulatory.

Legal Authority: 51 U.S.C. 20113

Abstract: In December, 2014, OMB together with NASA and the other Federal awarding agencies, issued a joint interim rule to implement the new guidance at 2 CFR 200 titled “Uniform Administrative Requirements, Cost Principles, and Audit Requirements for Federal Awards (Uniform Guidance).” OMB used the rulemaking procedure when promulgating this common rule on grants and cooperative agreements and required each agency to adopt OMB's common rule on grants and cooperative agreements. Although statutorily unnecessary, NASA used rulemaking procedures in 2015 to incorporate portions of the Uniform Guidance into the Federal Regulations because the NASA Grants Management function was affiliated with Procurement Operations at the time. For example, a review of all Federal grant awarding agencies of their handling of 2 CFR 200 subtitle B indicated that only 2700-AE49 NASA of the 32 Agencies and Offices of the federal government included Terms and Conditions in Federal Regulations. The below requested change will reduce burden by having unnecessary requirements in the Federal Regulations removed as well as allow NASA to streamline its practices to comport with other Federal grant awarding agencies. NASA is issuing a direct final rule to:

1. Remove the Certifications, Assurances, and Representations Appendix A from 2 CFR 1800.

2. Remove the Terms and Conditions Appendix B from 2 CFR 1800.

3. Change section 1800.208 and take out “the certification and representations for NASA may be found at Appendix A of this part.”

4. Change section 1800.210 and take out “the terms and conditions for NASA may be found at Appendix A of this part.”

Timetable:

Action | Date | FR Cite
Direct Final Rule | 12/00/18 |

Regulatory Flexibility Analysis Required: No.

Agency Contact: Pillai Chandran, Staff Accountant, National Aeronautics and Space Administration, 300 E Street SW, Washington, DC 20546, Phone: 202 358-705, Email: chandran.pillai-1@nasa.gov.

RIN: 2700-AE49

[FR Doc. 2018-24163 Filed 11-15-18; 8:45 am]

BILLING CODE 7510-13-P